DEPARTMENT OF AGRICULTURE

Natural Resources Conservation Service

Lost River Watershed, Hardy County, WV

AGENCY: Natural Resources Conservation Service, USDA.

ACTION: Notice of Intent to Prepare an Environmental Impact Statement.

SUMMARY: Pursuant to Section 102(2)(C) of the National Environmental Policy Act of 1969; the Council on Environmental Quality Guidelines (40 CFR part 1500); and the Natural Resources Conservation Service Guidelines (7 CFR part 650); the Natural Resources Conservation Service (NRCS), U. S. Department of Agriculture, is giving notice that an environmental impact statement (EIS) will be prepared regarding Site 16, Lower Cove Run, in the Lost River Subwatershed of the Potomac River Watershed, Hardy County, West Virginia. (This Notice of Intent supersedes a previously published Federal Register in the Notices Section on April 10, 2006 (71 FR 18603), and includes an announcement of a public scoping meeting.)

FOR FURTHER INFORMATION CONTACT: Ronald L. Hilliard, State Conservationist, Natural Resources Conservation Service, 75 High Street, Room 301, Morgantown, West Virginia 26505, telephone (304) 284-7545.

SUPPLEMENTARY INFORMATION: In October 1974, the Lost River Subwatershed Work Plan—Final Environmental Impact Statement was prepared and was approved for operations on February 11, 1975, under authority of the Flood Control Act, Public Law 534. The approved work plan included provisions for land treatment measures covering 94,750 acres, four single-purpose floodwater retarding impoundments and one multiple-purpose floodwater retarding and recreation impoundment. Two of the single-purpose floodwater retarding impoundments (Site 4, Kimsey Run and Site 27, Upper Cove Run) have been installed. In March 2001, the watershed plan was amended to add 400 acre-feet of rural water supply storage as a purpose for Site 10 (Camp Branch). The impoundment at Site 10 was completed in September 2005. Site 23, Culler Run, was determined to be not feasible due to engineering and geological concerns and will be eliminated as a component of the Lost River Watershed Project.

Planning is now underway for Site 16, Lower Cove Run which will be the subject of the EIS. Site 16 was originally planned as a multiple-purpose floodwater retarding and recreation structure. At the request of the local sponsoring organizations, the recreation component of Site 16 has been eliminated (other than incidental recreational uses) and the purpose of rural water supply has been added for this impoundment. Alternatives currently identified to be addressed in this EIS include the No Action Alternative and Alternative 1, Construction of Dam at Site 16.

The NRCS has determined that this federally assisted action may have the potential for significant local, regional, or national impacts on the environment. As a result of these findings, and due to the age of the original EIS for the watershed, Ronald L. Hilliard, State Conservationist, has determined that the preparation and review of a new environmental impact statement is warranted. Since one of the current identified alternatives would impound water on a small portion of National Forest System Land, the U. S. Forest Service will be a cooperating agency.

A draft environmental impact statement (DEIS) will be prepared and circulated for review by agencies and the public. The Natural Resources Conservation Service invites participation and consultation of agencies and individuals that have special expertise, legal jurisdiction, or interest in the preparation of the DEIS. A scoping meeting (workshop) will be held on Tuesday August 1, 2006, at the East Hardy High School in Baker, WV. The workshop will be held from 4 p.m. through 7 p.m. Those attending will have the opportunity to inquire about the project and to provide input to determine the scope of the evaluation of the proposed action. The goals of the workshop will be to identify public and agency concerns, environmental issues, and other possible alternatives to be discussed in the DEIS. Further information on the proposed action may be obtained from Ronald L. Hilliard, State Conservationist, at the above address or telephone (304) 284-7545.

July 3, 2006.
Ronald L. Hilliard,
State Conservationist.

[FR Doc. E6-10882 Filed 7-10-06; 8:45 am]

BILLING CODE 3410-16-P